POSTAL SERVICE

39 CFR Part 20

International Mail: Mailing Services Price Change

AGENCY: Postal Service™

ACTION: Final rule.

SUMMARY: The Postal Service will revise Mailing Standards of the United States Postal Service, International Mail Manual (IMM®) for Mailing Services. This price change correlates to the Postal Service's January 13, 2011 filing of Docket No. R2011-2, Notice of Price Adjustment, with the Postal Regulatory Commission (PRC).

DATES: April 17, 2011.

FOR FURTHER INFORMATION CONTACT: Rick Klutts at 813-877-0372.

SUPPLEMENTARY INFORMATION: On January 13, 2011, the Postal Service filed a notice of Mailing Services price adjustments with the Postal Regulatory Commission to be effective on April 17, 2011. This final rule provides the mailing standards that would accompany new prices.

First-Class Mail International

The overall price increase for First-Class Mail International® is approximately 5.1 percent. More specifically, postcards increase by 1 percent, letter-size pieces increased by 1.9 percent, flat-size pieces increased by 4.0 percent, and package-size pieces increased by 7.8 percent.

Postcards

The price structure for postcards now includes only two separate price categories: Canada and Mexico, and all other countries. Previously, Canada and Mexico were priced separately. The price for postcards increases by approximately 1.0 percent.

List of Subjects in 39 CFR Part 20

Foreign relations, International postal services.

Accordingly, 39 CFR part 20 is amended as follows:

PART 20 —[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

Index of Countries and Localities

Country Conditions for Mailing

* * * * *

[Replace the current price tables in the Individual Country Listings with the following:]

First-Class Mail International Letters
Weight not over (ozs.) | Price groups: 1 | Price groups: 2 | Price groups: 3, 4, 5 | Price groups: 6, 7, 8, 9
1 | $0.80 | $0.80 | $0.98 | $0.98
2 | 1.08 | 1.36 | 1.82 | 1.76
3 | 1.36 | 1.92 | 2.66 | 2.54
3.5 | 1.64 | 2.48 | 3.50 | 3.32
Postcards | 0.80 | 0.80 | 0.98 | 0.98

First-Class Mail International Large Envelopes (Flats)
Weight not over (ozs.) | Price groups: 1 | Price groups: 2 | Price groups: 3, 4, 5 | Price groups: 6, 7, 8, 9
1 | $1.08 | $1.08 | $1.30 | $1.30
2 | 1.34 | 1.65 | 2.17 | 2.13
3 | 1.60 | 2.22 | 3.04 | 2.96
4 | 1.86 | 2.79 | 3.91 | 3.79
5 | 2.12 | 3.36 | 4.78 | 4.62
6 | 2.38 | 3.93 | 5.65 | 5.45
7 | 2.64 | 4.50 | 6.52 | 6.28
8 | 2.90 | 5.07 | 7.39 | 7.11
12 | 3.94 | 6.71 | 9.18 | 8.86
16 | 4.98 | 8.35 | 10.97 | 10.61
20 | 6.02 | 9.99 | 12.76 | 12.36
24 | 7.06 | 11.63 | 14.55 | 14.11
28 | 8.10 | 13.27 | 16.34 | 15.86
32 | 9.14 | 14.91 | 18.13 | 17.61
36 | 10.18 | 16.55 | 19.92 | 19.36
40 | 11.22 | 18.19 | 21.71 | 21.11
44 | 12.26 | 19.83 | 23.50 | 22.86
48 | 13.30 | 21.47 | 25.29 | 24.61
52 | 14.34 | 23.11 | 27.08 | 26.36
56 | 15.38 | 24.75 | 28.87 | 28.11
60 | 16.42 | 26.39 | 30.66 | 29.86
64 | 17.46 | 28.03 | 32.45 | 31.61

First-Class Mail International Packages (Small Packets)
Weight not over (ozs.) | Price groups: 1 | Price groups: 2 | Price groups: 3, 4, 5 | Price groups: 6, 7, 8, 9
1 | $1.72 | $1.72 | $1.72 | $1.72
2 | 1.98 | 2.29 | 2.59 | 2.53
3 | 2.24 | 2.86 | 3.46 | 3.34
4 | 2.50 | 3.43 | 4.33 | 4.15
5 | 2.76 | 4.00 | 5.20 | 4.96
6 | 3.02 | 4.57 | 6.07 | 5.77
7 | 3.28 | 5.14 | 6.94 | 6.58
8 | 3.54 | 5.71 | 7.81 | 7.39
12 | 4.56 | 7.33 | 9.60 | 9.14
16 | 5.58 | 8.95 | 11.39 | 10.89
20 | 6.60 | 10.57 | 13.18 | 12.64
24 | 7.62 | 12.19 | 14.97 | 14.39
28 | 8.64 | 13.81 | 16.76 | 16.14
32 | 9.66 | 15.43 | 18.55 | 17.89
36 | 10.68 | 17.05 | 20.34 | 19.64
40 | 11.70 | 18.67 | 22.13 | 21.39
44 | 12.72 | 20.29 | 23.92 | 23.14
48 | 13.74 | 21.91 | 25.71 | 24.89
52 | 14.76 | 23.53 | 27.50 | 26.64
56 | 15.78 | 25.15 | 29.29 | 28.39
60 | 16.80 | 26.77 | 31.08 | 30.14
64 | 17.82 | 28.39 | 32.87 | 31.89

* * * * *

We will publish an amendment to 39 CFR part 20 to reflect these changes.

Stanley F. Mires,
Chief Counsel, Legislative.

[FR Doc. 2011-2794 Filed 2-8-11; 8:45 am]

BILLING CODE 7710-12-P